DEPARTMENT OF HEALTH AND HUMAN SERVICES

National Institutes of Health

Center for Scientific Review; Amended Notice of Meeting

Notice is hereby given of a change in the meeting of the Center for Scientific Review Special Emphasis Panel, October 17, 2013, 09:00 a.m. to October 17, 2013, 03:00 p.m., Doubletree Hotel Bethesda, (Formerly Holiday Inn Select), 8120 Wisconsin Avenue, Bethesda, MD, 20814 which was published in the Federal Register on September 20, 2013, 78 FR 57867.

The meeting will be held by teleconference at the National Institutes of Health, 6701 Rockledge Drive, Bethesda, MD 20892. The meeting will be held on November 12, 2013 from 02:00 p.m. to 03:30 p.m. The meeting is closed to the public.

Dated: October 22, 2013.
Michelle Trout,
Program Analyst, Office of Federal Advisory Committee Policy.

[FR Doc. 2013-25221 Filed 10-25-13; 8:45 am]

BILLING CODE 4140-01-P